DEPARTMENT OF TRANSPORTATION

Federal Highway Administration

Environmental Impact Statement; Knox County, City of Vincennes, IN and Lawrence County, IL

AGENCY: Federal Highway Administration (FHWA), DOT.

ACTION: Revised notice of intent.

SUMMARY: The Federal Highway Administration (FHWA) is issuing this revised notice to advise the public that FHWA will not be preparing an Environmental Impact Statement (EIS) for the proposed relocation of railroad lines in Knox County, Indiana and Lawrence County, Illinois. A “Notice of Intent” to prepare an EIS was published in the Federal Register on March 16, 2007.

FOR FURTHER INFORMATION CONTACT: Janice Osadczuk, Planning and Environmental Specialist, Federal Highway Administration, Telephone: (317) 226-7486; or Frank Litherland, INDOT Project Manager, Telephone 812-882-8364.

SUPPLEMENTARY INFORMATION: The FHWA, in cooperation with the Indiana Department of Transportation (INDOT) and the Illinois Department of Transportation (IDOT), will not prepare an EIS as previously intended on a proposal to evaluate alternative alignments for the relocation of the two CSXT railroad mainline tracks, the north-south mainline and the east-west mainline that traverses through the City of Vincennes and portions of Knox County, Indiana and Lawrence County, Illinois. Based on further review of the project and related impacts it was determined that the scope of the project would be reduced in scope from a railroad relocation project requiring the preparation of an environmental impact statement to a series of spot improvements where the roadway bridges over the existing railroad. For these improvements either an environmental assessment or categorical exclusions will be prepared.

(Catalog of Federal Domestic Assistance Program No. 20.205, Highway Planning and Construction. The regulations implementing Executive Order 12372 regarding intergovernmental consultation on Federal programs and activities apply to the program).

Authority: 23 U.S.C. 315; 23 CFR 771.123; 49 CFR 1.48.

Robert F. Tally,
Division Administrator, Indianapolis, Indiana.

[FR Doc. E8-27914 Filed 11-24-08; 8:45 am]

BILLING CODE 4910-22-P